NUCLEAR REGULATORY COMMISSION

[NRC-2020-0224]

Biweekly Notice: Applications and Amendments to Facility Operating Licenses and Combined Licenses Involving No Significant Hazards Considerations

AGENCY: Nuclear Regulatory Commission.

ACTION: Biweekly notice.

SUMMARY: Pursuant to section 189.a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This biweekly notice includes all amendments issued, or proposed to be issued, from September 5, 2020, to September 21, 2020. The last biweekly notice was published on September 22, 2020.

DATES: Comments must be filed by November 5, 2020. A request for a hearing or petitions for leave to intervene must be filed by December 7, 2020.

ADDRESSES: You may submit comments by any of the following methods:

• Federal Rulemaking Website: Go to https://www.regulations.gov and search for Docket ID NRC-2020-0224. Address questions about NRC Docket IDs in Regulations.gov to Jennifer Borges; telephone: 301-287-9127; email: Jennifer.Borges@nrc.gov. For technical questions, contact the individual(s) listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Janet Burkhardt, Office of Nuclear Reactor Regulation, telephone: 301-415-1384, email: Janet.Burkhardt@nrc.gov, U.S. Nuclear Regulatory Commission, Washington DC 20555-0001.

SUPPLEMENTARY INFORMATION:

I. Obtaining Information and Submitting Comments

A. Obtaining Information

Please refer to Docket ID NRC-2020-0224, facility name, unit number(s), docket number(s), application date, and subject when contacting the NRC about the availability of information for this action. You may obtain publicly-available information related to this action by any of the following methods:

• Federal Rulemaking Website: Go to https://www.regulations.gov and search for Docket ID NRC-2020-0224.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The ADAMS accession number for each document referenced (if it is available in ADAMS) is provided the first time that it is mentioned in this document.

B. Submitting Comments

Please include Docket ID NRC-2020-0224, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensee's analyses provided, consistent with title 10 of the Code of Federal Regulations (10 CFR) section 50.91, is sufficient to support the proposed determination that these amendment requests involve NSHC. Under the Commission's regulations in 10 CFR 50.92, operation of the facility in accordance with the proposed amendment would not (1) involve a significant increase in the probability or consequences of an accident previously evaluated; or (2) create the possibility of a new or different kind of accident from any accident previously evaluated; or (3) involve a significant reduction in a margin of safety.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves NSHC. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final NSHC determination, any hearing will take place after issuance. The Commission expects that the need to take action on an amendment before 60 days have elapsed will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The table below provides the plant name, docket number, date of application, ADAMS accession number, and location in the application of the licensee's proposed NSHC determination. For further details with respect to these license amendment applications, see the application for amendment which is available for public inspection in ADAMS and at the NRC's PDR. For additional direction on accessing information related to this document, see the “Obtaining Information and Submitting Comments” section of this document.

Table 1—License Amendment Request(s)
Duke Energy Carolinas, LLC; Catawba Nuclear Station, Units 1 and 2; York County, SC, Duke Energy Carolinas, LLC; McGuire Nuclear Station, Units 1 and 2; Mecklenburg County, SC, Duke Energy Carolinas, LLC; Oconee Nuclear Station, Units 1, 2, and 3; Oconee County, SC, Duke Energy Progress, LLC; Brunswick Steam Electric Plant, Units 1 and 2; Brunswick County, NC, Duke Energy Progress, LLC; H.B. Robinson Steam Electric Plant, Unit No. 2; Darlington County, SC, Duke Energy Progress, LLC; Shearon Harris Nuclear Power Plant, Unit 1; Wake and Chatham Counties, NC
Docket No(s) | 50-324, 50-325, 50-413, 50-414, 50-261, 50-369, 50-370, 50-269, 50-270, 50-287, 50-400.
Application Date | September 3, 2020.
ADAMS Accession No | ML20247J468.
Location in Application of NSHC | Pages 68-70 of Enclosure 1; Pages 70-72 of Enclosure 2; Pages 74-76 of Enclosure 3; Pages 69-72 of Enclosure 4; Pages 71-73 of Enclosure 5; and Pages 73-75 of Enclosure 6.
Brief Description of Amendment(s) | The proposed amendments would change the emergency plan for each of the six Duke Energy nuclear power plant sites listed. Specifically, a new fleet common emergency plan with site-specific annexes is proposed. This new emergency plan was developed using NUREG-0654, Revision 2.
Proposed Determination | NSHC.
Name of Attorney for Licensee, Mailing Address | Kathryn B. Nolan, Deputy General Counsel, Duke Energy Corporation, 550 South Tryon Street (DEC45A), Charlotte, NC 28202.
NRC Project Manager, Telephone Number | Andrew Hon, 301-415-8480.
Duke Energy Carolinas, LLC; McGuire Nuclear Station, Units 1 and 2; Mecklenburg County, SC, Duke Energy Carolinas, LLC; Catawba Nuclear Station, Units 1 and 2; York County, SC
Docket No(s) | 50-414, 50-413, 50-369, 50-370.
Application Date | August 19, 2020.
ADAMS Accession No | ML20233A258.
Location in Application of NSHC | Pages 6-7 of the Enclosure.
Brief Description of Amendment(s) | The proposed amendments would revise Technical Specification 3.8.1, “AC [Alternating Current] Sources—Operating,” for McGuire Nuclear Station, Units 1 and 2, and Catawba Nuclear Station, Units 1 and 2, to reduce the allowed steady state voltage and reduce the allowed maximum steady state voltage for the emergency diesel generator.
Proposed Determination | NSHC.
Name of Attorney for Licensee, Mailing Address | Kathryn B. Nolan, Deputy General Counsel, Duke Energy Corporation, 550 South Tryon Street (DEC45A), Charlotte, NC 28202.
NRC Project Manager, Telephone Number | G. Ed Miller, 301-415-2481.
Nine Mile Point Nuclear Station, LLC and Exelon Generation Company, LLC; Nine Mile Point Nuclear Station, Unit 1; Oswego County, NY
Docket No(s) | 50-220.
Application Date | August 20, 2020.
ADAMS Accession No | ML20233A435.
Location in Application of NSHC | Pages 5-7 of Attachment 1.
Brief Description of Amendment(s) | The proposed amendment would revise Surveillance Requirement 4.3.4c in Nine Mile Point, Unit 1, Technical Specification 3.3.4, “Primary Containment Isolation Valves,” to state that a representative sample of instrument-line flow check valves will be tested in accordance with the Surveillance Frequency Control Program such that each instrument-line flow check valve will be tested at least once every 10 years.
Proposed Determination | NSHC.
Name of Attorney for Licensee, Mailing Address | Jason Zorn, Associate General Counsel, Exelon Generation Company, LLC, 101 Constitution Avenue NW, Suite 400, Washington, DC 20001.
NRC Project Manager, Telephone Number | Michael L. Marshall, Jr., 301-415-2871.
Susquehanna Nuclear, LLC and Allegheny Electric Cooperative, Inc.; Susquehanna Steam Electric Station, Units 1 and 2; Luzerne County, PA
Docket No(s) | 50-387, 50-388.
Application Date | September 1, 2020.
ADAMS Accession No | ML20245E192.
Location in Application of NSHC | Pages 5-8 of Enclosure 1.
Brief Description of Amendment(s) | The proposed amendments would adopt Technical Specifications Task Force (TSTF) Traveler, TSTF-582, “RPV WIC [Reactor Pressure Vessel Water Inventory Control] Enhancements,” by revising the Susquehanna, Units 1 and 2, technical specifications related to the reactor pressure vessel water inventory control to incorporate operating experience and to correct errors and omissions in TSTF-542, Revision 2, “Reactor Pressure Vessel Water Inventory Control.”
Proposed Determination | NSHC.
Name of Attorney for Licensee, Mailing Address | Damon D. Obie, Esq, 835 Hamilton St., Suite 150, Allentown, PA 18101.
NRC Project Manager, Telephone Number | Sujata Goetz, 301-415-8004.
Tennessee Valley Authority; Browns Ferry Nuclear Plant, Units 1, 2, and 3; Limestone County, AL
Docket No(s) | 50-259, 50-260, 50-296.
Application Date | August 6, 2020.
ADAMS Accession No | ML20219A762.
Location in Application of NSHC | Pages E-7 to E-8 of the Enclosure.
Brief Description of Amendment(s) | The proposed amendments would modify Technical Specification 3.8.6, “Battery Cell Parameters,” to clarify the operability requirements for the Unit, Shutdown Board, and Diesel Generator batteries.
Proposed Determination | NSHC.
Name of Attorney for Licensee, Mailing Address | Sherry Quirk, Executive VP and General Counsel, Tennessee Valley Authority, 400 West Summit Hill Drive, WT 6A, Knoxville, TN 37902.
NRC Project Manager, Telephone Number | Michael Wentzel, 301-415-6459.
Tennessee Valley Authority; Watts Bar Nuclear Plant, Units 1 and 2; Rhea County, TN
Docket No(s) | 50-390, 50-391.
Application Date | August 18, 2020.
ADAMS Accession No | ML20234A241.
Location in Application of NSHC | Page E5 of the Enclosure, which cites the NSHC published in the Federal Register on March 19, 2007 (72 FR 12838).
Brief Description of Amendment(s) | The proposed amendments would replace the Watts Bar Nuclear Plant, Units 1 and 2, Technical Specification 3.4.16, “RCS [Reactor Coolant System] Specific Activity,” limit on RCS gross specific activity with a new limit on RCS noble gas activity, consistent with Technical Specifications Task Force (TSTF) Traveler TSTF-490, “Deletion of E Bar Definition and Revision to RCS Specific Activity Tech Spec.”
Proposed Determination | NSHC.
Name of Attorney for Licensee, Mailing Address | Sherry Quirk, Executive VP and General Counsel, Tennessee Valley Authority, 400 West Summit Hill Drive, WT 6A, Knoxville, TN 37902.
NRC Project Manager, Telephone Number | Kimberly Green, 301-415-1627.
U.S. Dept of Transportation, Maritime Administration, NS SAVANNAH, Baltimore, MD
Docket No(s) | 50-238.
Application Date | September 4, 2020.
ADAMS Accession No | ML20255A084.
Location in Application of NSHC | Pages 14-15 of Enclosure 1.
Brief Description of Amendment(s) | The proposed amendment would (1) delete duplicate effluent monitoring reporting requirements, (2) delete duplicate access control requirements, and (3) allow removal of draft stripes intended for monitoring the ship's trim when anchored offshore.
Proposed Determination | NSHC.
Name of Attorney for Licensee, Mailing Address | Erhard Koehler, Senior Technical Advisor, 1200 New Jersey Avenue SE, Washington, DC 20590.
NRC Project Manager, Telephone Number | Ted Smith, 301-415-6721.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action, see (1) the application for amendment; (2) the amendment; and (3) the Commission's related letter, Safety Evaluation, and/or Environmental Assessment as indicated. All of these items can be accessed as described in the “Obtaining Information and Submitting Comments” section of this document.

Table 2—License Amendment Issuance(s)
Duke Energy Carolinas, LLC; Oconee Nuclear Station, Units 1, 2, and 3; Oconee County, SC, Duke Energy Progress, LLC; Shearon Harris Nuclear Power Plant, Unit 1; Wake and Chatham Counties, NC
Docket No(s) | 50-269, 50-270, 50-287, 50-400.
Amendment Date | September 4, 2020.
ADAMS Accession No | ML20237F435.
Amendment No(s) | 417, 419, and 418 (Oconee, Units 1, 2 and 3), 180 (Harris, Unit 1).
Brief Description of Amendment(s) | The amendments revised the technical specification requirements for mode change limitations based on Technical Specifications Task Force (TSTF) Traveler TSTF-359, “Increase Flexibility in Mode Restraints,” Revision 9. The availability of TSTF-359 for adoption by licensees was announced in the Federal Register on April 4, 2003 (68 FR 16579), as part of the Consolidated Line Item Improvement Process.
Duke Energy Progress, LLC; Brunswick Steam Electric Plant, Units 1 and 2; Brunswick County, NC, Duke Energy Carolinas, LLC; Catawba Nuclear Station, Units 1 and 2; York County, SC, Duke Energy Progress, LLC; Shearon Harris Nuclear Power Plant, Unit 1; Wake and Chatham Counties, NC, Duke Energy Carolinas, LLC; McGuire Nuclear Station, Units 1 and 2; Mecklenburg County, NC, Duke Energy Carolinas, LLC; Oconee Nuclear Station, Units 1, 2, and 3; Oconee County, SC, Duke Energy Progress, LLC; H.B. Robinson Steam Electric Plant, Unit No. 2; Darlington County, SC
Docket No(s) | 50-325, 50-324, 50-413, 50-414, 50-400, 50-369, 50-370, 50-269, 50-270, 50-287, 50-261.
Amendment Date | August 12, 2020.
ADAMS Accession No | ML20083F927.
Amendment No(s) | 301 and 329 (Brunswick, Units 1 and 2); 307 and 303 (Catawba, Units 1 and 2); 178 (Harris, Unit 1); 317 and 296 (McGuire, Units 1 and 2); 416, 418, and 417 (Oconee, Units 1, 2, and 3); and 268 (Robinson, Unit No. 2).
Brief Description of Amendment(s) | The amendments revised the technical specifications (TS) for each of these facilities to relocate the unit/facility/plant staff qualification requirements (e.g., American Nuclear Standards Institute (ANSI) N18.1-1971, “Selection and Training of Nuclear Power Plant Personnel”) currently located in the TS to the Duke Energy Quality Assurance Program Description.
Exelon Generation Company, LLC; Braidwood Station, Units 1 and 2, Will County, IL; Byron Station, Unit Nos. 1 and 2, Ogle County, IL, Exelon Generation Company, LLC; Exelon Generation Company, LLC; Calvert Cliffs Nuclear Power Plant, Units 1 and 2; Calvert County, MD
Docket No(s) | 50-456, 50-457, 50-454, 50-455, 50-317, 50-318.
Amendment Date | August 20, 2020.
ADAMS Accession No | ML20010C416.
Amendment No(s) | 214 and 214 (Braidwood, Units 1 and 2), 218 and 218 (Byron, Unit Nos. 1 and 2), 315 and 337 (Calvert Cliffs, Units 1 and 2).
Brief Description of Amendment(s) | The amendments revised the technical specifications and the operating license to adopt Technical Specification Task Force (TSTF) Traveler TSTF-569, Revision 2, “Revise Response Time Testing Definition.”
Exelon Generation Company, LLC; Braidwood Station, Units 1 and 2, Will County, IL; Byron Station, Unit Nos. 1 and 2, Ogle County, IL, Exelon Generation Company, LLC; R.E. Ginna Nuclear Power Plant; Wayne County, New York
Docket No(s) | 50-244, 50-454, 50-455, 50-456, 50-457.
Amendment Date | September 11, 2020.
ADAMS Accession No | ML20167A007.
Amendment No(s) | 216 and 216 (Braidwood, Units 1 and 2), 220 and 220 (Byron, Unit Nos. 1 and 2), 143 (Ginna).
Brief Description of Amendment(s) | The amendments revised the technical specifications to adopt Technical Specifications Task Force (TSTF) Traveler TSTF-567, “Add Containment Sump TS [Technical Specifications] to Address GSI [Generic Safety Issue]-191 Issues.”
Exelon Generation Company, LLC; Braidwood Station, Units 1 and 2, Will County, IL; Byron Station, Unit Nos. 1 and 2, Ogle County, IL
Docket No(s) | 50-454, 50-455, 50-456, 50-457.
Amendment Date | September 10, 2020.
ADAMS Accession No | ML20149K698.
Amendment No(s) | 215 and 215 (Braidwood, Units 1 and 2), 219 and 219 (Byron, Unit Nos. 1 and 2).
Brief Description of Amendment(s) | The amendments revised Technical Specification 5.5.16, “Containment Leakage Rate Testing Program,” by replacing the existing reference with a reference to Nuclear Energy Institute (NEI) Topical Report NEI 94-01, “Industry Guideline for Implementing Performance-Based Option of 10 CFR part 50, Appendix J,” Revision 3-A, and the conditions and limitations specified in NEI 94-01, Revision 2-A, as the documents used to implement the performance-based containment leakage testing program in accordance with Option B of 10 CFR part 50, Appendix J.
Exelon Generation Company, LLC; Braidwood Station, Units 1 and 2, Will County, IL; Byron Station, Unit Nos. 1 and 2, Ogle County, IL
Docket No(s) | 50-454, 50-455, 50-456, 50-457.
Amendment Date | September 18, 2020.
ADAMS Accession No | ML20163A046.
Amendment No(s) | 217 and 217 (Braidwood, Units 1 and 2), 221 and 221 (Braidwood, Unit Nos. 1 and 2).
Brief Description of Amendment(s) | The amendments revised Technical Specification 5.6.6, “Reactor Coolant System (RCS) Pressure and Temperature Limits Report (PTLR),” to allow use of AREVA NP Topical Report BAW-2308, Revisions 1-A and 2-A, “Initial RTNDT [Reference Temperature Nil Ductility] of Linde 80 Weld Materials.”
Exelon Generation Company, LLC; Byron Station, Unit No. 1; Ogle County, IL, Exelon Generation Company, LLC; Byron Station, Unit No. 2; Ogle County, IL
Docket No(s) | 50-454, 50-455
Amendment Date | September 21, 2020.
ADAMS Accession No | ML20246G865.
Amendment No(s) | 222 (Unit No. 1) and 222 (Unit No. 2).
Brief Description of Amendment(s) | The amendment to Byron Station, Unit No. 1, changed the amendment number to 222 because it has common technical specifications (TS) with Byron Station, Unit No. 2. The amendment to Byron Station, Unit No. 2, revised TS 5.5.9, “Steam Generator (SG) Program,” to allow deferral of the required inspections until the next Byron Station, Unit No. 2, refueling outage.
Northern States Power Company; Monticello Nuclear Generating Plant; Wright County, MN, Northern States Power Company—Minnesota; Prairie Island Nuclear Generating Plant, Unit Nos. 1 and 2; Goodhue County, MN
Docket No(s) | 50-263, 50-282, 50-306.
Amendment Date | September 8, 2020.
ADAMS Accession No | ML20210M014.
Amendment No(s) | 204 (Monticello); 231 and 219 (Prairie Island, Unit Nos. 1 and 2).
Brief Description of Amendment(s) | The amendments revised the technical specification (TS) requirements in TS Sections 1.3 and 3.0 regarding Limiting Condition for Operation and Surveillance Requirement usage consistent with Technical Specifications Task Force (TSTF) Traveler TSTF-529, “Clarify Use and Application Rules,” Revision 4.
Pacific Gas and Electric Company; Diablo Canyon Power Plant, Units 1 and 2; San Luis Obispo County, CA
Docket No(s) | 50-275, 50-323.
Amendment Date | September 11, 2020.
ADAMS Accession No | ML20218A276.
Amendment No(s) | 237 (Unit 1) and 239 (Unit 2).
Brief Description of Amendment(s) | The amendments relocated Diablo Canyon Nuclear Power Plant, Units 1 and 2, Technical Specification 5.3, “Unit Staff Qualifications,” to the Updated Final Safety Analysis Report.
Southern Nuclear Operating Company, Inc.; Edwin I Hatch Nuclear Plant, Units 1 and 2; Appling County, GA
Docket No(s) | 50-321, 50-366.
Amendment Date | September 15, 2020.
ADAMS Accession No | ML20202A005.
Amendment No(s) | 306 (Unit 1) and 251 (Unit 2).
Brief Description of Amendment(s) | The amendment changed Technical Specification (TS) 3.6.3.2, “Primary Containment Oxygen Concentration.” The changes simplify and clarify the applicability statements, which if misapplied, could conflict with the corresponding required actions. The changes also remove the undefined term “scheduled plant shutdown” and provide adequate terminal actions. The amendments are based on Technical Specifications Task Force (TSTF) Traveler TSTF-568, Revision 2, “Revise Applicability of BWR/4 TS 3.6.2.5 and TS 3.6.3.2” (ADAMS Accession No. ML19141A122).
Southern Nuclear Operating Company, Inc.; Edwin I Hatch Nuclear Plant, Units 1 and 2; Appling County, GA
Docket No(s) | 50-321, 50-366.
Amendment Date | September 18, 2020.
ADAMS Accession No | ML20254A067.
Amendment No(s) | 307 (Unit 1) and 252 (Unit 2).
Brief Description of Amendment(s) | The amendments revised Technical Specification (TS) 3.8.1, “AC [Alternating Current] Sources—Operating,” to provide a one-time extension of the completion time of Required Action B.4 for Hatch Unit 1 TS and Required Actions B.4 and C.4 for Hatch Unit 2 TS for each Hatch, Unit 1, emergency diesel generator (EDG) and the swing EDG from 14 days to 19 days.

IV. Previously Published Notice of Consideration of Issuance of Amendments to Facility Operating Licenses and Combined Licenses, Proposed No Significant Hazards Consideration Determination, and Opportunity for a Hearing

The following notices were previously published as separate individual notices. They were published as individual notices either because time did not allow the Commission to wait for this biweekly notice or because the action involved exigent circumstances. They are repeated here because the biweekly notice lists all amendments issued or proposed to be issued involving NSHC.

For details, including the applicable notice period, see the individual notice in the Federal Register on the day and page cited.

Table 3—License Amendment Request(s)—Repeat of Individual Federal Register Notice
Energy Northwest; Columbia Generating Station; Benton County, WA
Docket No(s) | 50-397.
Application Date | September 4, 2020.
ADAMS Accession No | ML20242A002.
Brief Description of Amendment(s) | The amendment added a one-time extension to the completion time of Technical Specification 3.8.7, “Distribution Systems—Operating,” Condition A, from 8 hours to 16 hours, specifically associated with Division 2 alternating current electrical power distribution inoperability caused by inoperability of 120/240-volt power panel E-PP-8AE during repairs on its supply transformer E-TR-8A/1.
Date & Cite of Federal Register Individual Notice | September 16, 2020; 85 FR 57885-57887.
Expiration Dates for Hearing Requests | November 16, 2020.

Dated: September 25, 2020.
For the Nuclear Regulatory Commission.
Gregory F. Suber,
Deputy Director, Division of Operating Reactor Licensing, Office of Nuclear Reactor Regulation.

[FR Doc. 2020-21610 Filed 10-5-20; 8:45 am]

BILLING CODE 7590-01-P